DEPARTMENT OF HEALTH AND HUMAN SERVICES

Food and Drug Administration

[Docket No. FDA-2017-N-6591]

Barr Laboratories, Inc. et al.; Withdrawal of Approval of 68 Abbreviated New Drug Applications

AGENCY: Food and Drug Administration, HHS.

ACTION: Notice.

SUMMARY: The Food and Drug Administration (FDA or Agency) is withdrawing approval of 68 abbreviated new drug applications (ANDAs) from multiple applicants. The holders of the applications notified the Agency in writing that the drug products were no longer marketed and requested that the approval of the applications be withdrawn.

DATES: Approval is withdrawn as of January 2, 2018.

FOR FURTHER INFORMATION CONTACT: Trang Tran, Center for Drug Evaluation and Research, Food and Drug Administration, 10903 New Hampshire Ave., Bldg. 75, Rm. 1671, Silver Spring, MD 20993-0002, 240-402-7945.

SUPPLEMENTARY INFORMATION: The holders of the applications listed in table 1 in this document have informed FDA that these drug products are no longer marketed and have requested that FDA withdraw approval of the applications under the process in § 314.150(c) (21 CFR 314.150(c)). The applicants have also, by their requests, waived their opportunity for a hearing. Withdrawal of approval of an application or abbreviated application under § 314.150(c) is without prejudice to refiling.

Table 1
Application No. | Drug | Applicant
ANDA 040135 | Estropipate Tablets USP, 0.75 milligrams (mg), 1.5 mg, and 3 mg | Barr Laboratories, Inc., Subsidiary of Teva Pharmaceuticals USA, Inc., 425 Privet Rd., Horsham, PA 19044.
ANDA 040755 | Carisoprodol Tablets USP, 350 mg | Sun Pharmaceutical Industries, Ltd., c/o Sun Pharmaceutical Industries, Inc., 270 Prospect Plains Rd., Cranbury, NJ 08512.
ANDA 062588 | Gentamicin Sulfate in 0.9% Sodium Chloride Injection, Equivalent to (EQ) 1.2 mg base/milliliter (mL), EQ 1.4 mg base/mL, EQ 1.6 mg base/mL, EQ 1.8 mg base/mL, EQ 2 mg base/mL, EQ 60 mg base/100 mL, EQ 70 mg base/100 mL, EQ 80 mg base/100 mL, EQ 90 mg base/100 mL, and EQ 100 mg base/100 mL | Hospira, Inc., a Pfizer Company, 275 North Field Dr., Bldg. H1, Lake Forest, IL 60045.
ANDA 062591 | Kefurox (cefuroxime) for Injection USP, EQ 750 mg base/vial, EQ 1.5 grams (g) base/vial, and EQ 7.5 g base/vial | ACS Dobfar S.p.A., c/o Interchem Corp., 120 Route 17 North, Paramus, NJ 07652.
ANDA 062756 | Primaxin IV (imipenem and cilastatin) for Injection USP, 250 mg/vial; EQ 250 mg base/vial and 500 mg/vial; EQ 500 mg base/vial | Merck Sharp & Dohme Corp., Subsidiary of Merck & Co., Inc., 1 Merck Dr., P.O. Box 100, Whitehouse Station, NJ 08889.
ANDA 063207 | Cefazolin for Injection USP, EQ 1 g base/vial | Facta Farmaceutici S.p.A., c/o Interchem Corp., 120 Route 17 North, Suite 115, Paramus, NJ 07652.
ANDA 063209 | Cefazolin for Injection USP, EQ 10 g base/vial and EQ 20 g base/vial (Pharmacy Bulk Package) | Do.
ANDA 063214 | Cefazolin for Injection USP, EQ 500 mg base/vial | Do.
ANDA 063263 | Amikacin Sulfate Injection USP, EQ 50 mg base/mL | Hospira, Inc.
ANDA 065268 | Ceftriaxone for Injection USP, EQ 1 g base/vial and EQ 2 g base/vial | Facta Farmaceutici S.p.A.
ANDA 065269 | Ceftriaxone for Injection USP, EQ 10 g base/vial (Pharmacy Bulk Package) | Do.
ANDA 065348 | Cefotaxime for Injection USP, EQ 10 g base/vial (Pharmacy Bulk Package) | Cephazone Pharma, LLC, 250 E. Bonita Ave., Pomona, CA 91767.
ANDA 065464 | Cefoxitin for Injection USP, EQ 10 g base/vial (Pharmacy Bulk Package) | ACS Dobfar S.p.A.
ANDA 065467 | Cefoxitin for Injection USP, EQ 1 g base/vial and EQ 2 g base/vial | Do.
ANDA 070048 | Cotrim D.S. (sulfamethoxazole and trimethoprim) Tablets USP, 800 mg/160 mg | Teva Pharmaceuticals USA, Inc., 425 Privet Rd., Horsham, PA 19044.
ANDA 070195 | Valproic Acid Capsules USP, 250 mg | Catalent Pharma Solutions, LLC, 2725 Scherer Dr. North, St. Petersburg, FL 33716.
ANDA 070513 | Tolazamide Tablets USP, 100 mg | Watson Laboratories, Inc., Subsidiary of Teva Pharmaceuticals USA, Inc., 425 Privet Rd., Horsham, PA 19044.
ANDA 070514 | Tolazamide Tablets USP, 250 mg | Do.
ANDA 071358 | Tolazamide Tablets USP, 250 mg | Sun Pharmaceutical Industries, Inc., 270 Prospect Plains Rd., Cranbury, NJ 08512.
ANDA 071359 | Tolazamide Tablets USP, 500 mg | Do.
ANDA 071667 | Ibuprofen Tablets USP, 600 mg | Pliva, Inc., Subsidiary of Teva Pharmaceuticals USA, Inc., 425 Privet Rd., Horsham, PA 19044.
ANDA 071668 | Ibuprofen Tablets USP, 800 mg | Do.
ANDA 071735 | Ibuprofen Tablets USP, 200 mg | Contract Pharmacal Corp., c/o SciRegs International Inc., 6333 Summercrest Dr., Columbia, MD 21045.
ANDA 071773 | Ibuprofen Tablets USP, 200 mg | Pliva, Inc., Subsidiary of Teva Pharmaceuticals USA, Inc.
ANDA 073254 | Loperamide Hydrochloride (HCl) Tablets USP, 2 mg | Contract Pharmacal Corp.
ANDA 074075 | Clemastine Fumarate Syrup, EQ 0.5 mg base/5 mL | Actavis Mid Atlantic, LLC, Subsidiary of Teva Pharmaceuticals USA, Inc., 425 Privet Rd., Horsham, PA 19044.
ANDA 074536 | Haloperidol Oral Solution USP, EQ 1 mg base/mL | Do.
ANDA 074782 | Ibuprofen Capsules, 200 mg | Contract Pharmacal Corp.
ANDA 074789 | Naproxen Sodium Tablets USP, EQ 200 mg base | Do.
ANDA 074931 | Ibuprofen Tablets USP, 200 mg | Do.
ANDA 074961 | Cimetidine Tablets USP, 200 mg | Do.
ANDA 074963 | Cimetidine Tablets USP, 200 mg | Do.
ANDA 075094 | Ranitidine Tablets USP, EQ 75 mg base | Do.
ANDA 075588 | Ibuprofen and Pseudoephedrine HCl Tablets USP, 200 mg/30 mg | Do.
ANDA 077058 | Pantoprazole Sodium Delayed-Release Tablets USP, EQ 20 mg base and EQ 40 mg base | Sun Pharmaceutical Industries, Ltd.
ANDA 077172 | Ondansetron Injection USP, EQ 2 mg base/mL | Do.
ANDA 077329 | Octreotide Acetate Injection, EQ 0.05 mg base/mL, EQ 0.1 mg base/mL, and EQ 0.5 mg base/mL | Do.
ANDA 077330 | Octreotide Acetate Injection, EQ 0.2 mg base/mL | Do.
ANDA 077331 | Octreotide Acetate Injection, EQ 1 mg base/mL | Do.
ANDA 078108 | Sertraline HCl Tablets, EQ 25 mg base, EQ 50 mg base, and EQ 100 mg base | Do.
ANDA 078478 | Torsemide Tablets, 5 mg, 10 mg, 20 mg, and 100 mg | Do.
ANDA 083000 | Folic Acid Tablets, 1 mg | Ivax Pharmaceutical USA, Inc., Subsidiary of Teva Pharmaceuticals USA, Inc., 425 Privet Rd., Horsham, PA 19044.
ANDA 085549 | Reserpine, Hydralazine HCl, and Hydrochlorothiazide Tablets, 0.1 mg/25 mg/15 mg | Watson Laboratories, Inc., Subsidiary of Teva Pharmaceuticals USA, Inc.
ANDA 086109 | Tolbutamide Tablets USP, 500 mg | Do.
ANDA 086577 | Trimethobenzamide HCl Injection, 100 mg/mL | Do.
ANDA 087191 | Triamcinolone Acetonide Lotion USP, 0.025% | Alpharma U.S. Pharms, Subsidiary of Teva Pharmaceuticals USA, Inc., 425 Privet Rd., Horsham, PA 19044.
ANDA 087398 | Spironolactone and Hydrochlorothiazide Tablets USP, 25 mg/25 mg | Watson Laboratories, Inc., Subsidiary of Teva Pharmaceuticals USA, Inc.
ANDA 088229 | Thioridazine HCl Oral Solution USP, 100 mg/mL | Actavis Mid Atlantic, LLC, Subsidiary of Teva Pharmaceuticals USA, Inc.
ANDA 088563 | Thioridazine HCl Tablets USP, 50 mg | Watson Laboratories, Inc., Subsidiary of Teva Pharmaceuticals USA, Inc.
ANDA 088567 | Thioridazine HCl Tablets USP, 25 mg | Do.
ANDA 088733 | Meclizine HCl Tablets, 25 mg (Chewable) | Pliva, Inc., Subsidiary of Teva Pharmaceuticals USA, Inc.
ANDA 088869 | Thioridazine HCl Tablets USP, 150 mg | Watson Laboratories, Inc., Subsidiary of Teva Pharmaceuticals USA, Inc.
ANDA 090800 | Quinapril Tablets USP, EQ 5 mg base, EQ 10 mg base, EQ 20 mg base, and EQ 40 mg base | Sun Pharmaceutical Industries, Ltd.
ANDA 091177 | Anastrozole Tablets, 1 mg | Do.
ANDA 091466 | Letrozole Tablets USP, 2.5 mg | Do.
ANDA 200486 | Norethindrone and Ethinyl Estradiol Tablets USP, 0.5 mg/0.035 mg, 0.75 mg/0.035 mg, and 1 mg/0.035 mg | Mylan Laboratories, Ltd., c/o Mylan Pharmaceuticals, Inc., 781 Chestnut Ridge Rd., P.O. Box 4310, Morgantown, WV 26504.
ANDA 200488 | Norethindrone and Ethinyl Estradiol Tablets USP, 0.5 mg/0.035 mg | Do.
ANDA 200489 | Norethindrone and Ethinyl Estradiol Tablets USP, 1 mg/0.035 mg | Do.
ANDA 201250 | Vancomycin HCl for Injection USP, EQ 5 g base/vial and EQ 10 g base/vial (Pharmacy Bulk Package) | Teva Pharmaceuticals USA, Inc.
ANDA 201251 | Vancomycin HCl for Injection USP, EQ 500 mg base/vial and EQ 1 g base/vial | Do.
ANDA 201828 | Norgestrel and Ethinyl Estradiol Tablets USP, 0.3 mg/0.03 mg | Mylan Laboratories, Ltd.
ANDA 202203 | Topotecan HCl for Injection, EQ 4 mg base/vial | Sun Pharmaceutical Industries, Ltd.
ANDA 202746 | Zoledronic Acid Injection, EQ 4 mg base/5 mL | Sun Pharma Global FZE, c/o Sun Pharmaceutical Industries, Inc., 2 Independence Way, Princeton, NJ 08540.
ANDA 202875 | Norgestrel and Ethinyl Estradiol Tablets USP, 0.5 mg/0.05 mg | Mylan Laboratories, Ltd.
ANDA 203476 | Zolmitriptan Tablets, 2.5 mg and 5 mg | Sun Pharma Global FZE.
ANDA 203685 | Irbesartan Tablets USP, 75 mg, 150 mg, and 300 mg | Ajanta Pharma Ltd., c/o Ajanta Pharma USA, Inc., One Grande Commons, 440 US Highway 22 East, Suite 150, Bridgewater, NJ 08807.
ANDA 203838 | Hydrocodone Bitartrate, Chlorpheniramine Maleate, and Pseudoephedrine HCl Oral Solution, 5 mg/4 mg/60 mg per 5 mL | Tris Pharma, Inc., 2033 Route 130, Monmouth Junction, NJ 08852.
ANDA 203839 | Hydrocodone Bitartrate and Pseudoephedrine HCl Oral Solution, 5 mg/60 mg per 5 mL | Do.

Therefore, approval of the applications listed in table 1 of this document, and all amendments and supplements thereto, is hereby withdrawn as of January 2, 2018. Introduction or delivery for introduction into interstate commerce of products without approved new drug applications violates section 301(a) and (d) of the Federal Food, Drug, and Cosmetic Act (21 U.S.C. 331(a) and (d)). Drug products that are listed in table 1 that are in inventory on the date that this notice becomes effective (see the DATES section) may continue to be dispensed until the inventories have been depleted or the drug products have reached their expiration dates or otherwise become violative, whichever occurs first.

Dated: November 27, 2017.
Leslie Kux,
Associate Commissioner for Policy..

[FR Doc. 2017-25920 Filed 11-30-17; 8:45 am]

BILLING CODE 4164-01-P